ENVIRONMENTAL PROTECTION AGENCY

[FRL-7382-5]

Amendment to Proposed Second Administrative Cashout Settlement Under Section 122(g) of the Comprehensive Environmental Response, Compensation, and Liability Act; In Re: Beede Waste Oil Superfund Site, Plaistow, NH

AGENCY: Environmental Protection Agency (EPA).

ACTION: Notice of amendment to proposed second administrative settlement and request for public comment.

SUMMARY: In accordance with section 122(i) of the Comprehensive Environmental Response, Compensation, and Liability Act, as amended, 42 U.S.C. 9622(i), notice is hereby given of an amendment to the proposed second administrative settlement for recovery of past and projected future response costs concerning the Beede Waste Oil Superfund Site in Plaistow, New Hampshire with the settling parties listed in the Supplementary Information portion of this notice. A notice for public comment for the proposed second administrative settlement, which is embodied in a CERCLA section 122(g) Administrative Order on Consent (“AOC”), was published in the Federal Register on September 10, 2002 (67 FR 57426). This notice simply amends the original Federal Register notice published as noted above to add one additional settling party listed in the Supplementary portion of this notice and to delete the United States Army Corps of Engineers from the list of settling parties. The revised aggregate total dollar amount for this settlement is approximately $4,750,223.10 and the number of participating parties is 415. Please note that this amendment does not enlarge the comment period already commenced for this second settlement. As stated in 67 FR 57426 the comment period runs from September 10, 2002 to October 10, 2002. During this time, EPA will receive written comments relating to the notice of second settlement, including this amendment. The EPA will consider all comments received and may modify or withdraw its consent to the second settlement if comments received disclose facts or considerations which indicate that the second settlement is inappropriate, improper, or inadequate. The EPA's response to any comments received will be available for public inspection at the EPA Records Center, 1 Congress Street, Boston, MA 02114-2023 (Telephone Number: 617-918-1440).

DATES: Comments must be submitted on or before October 10, 2002.

ADDRESSES: The proposed second settlement is available for public inspection at the EPA Records Center, 1 Congress Street, Boston, MA 02114-2023. Please call 617-918-1440 to schedule an appointment. A copy of the proposed second settlement may be obtained from Kristin Balzano, U.S. Environmental Protection Agency, Region I, 1 Congress Street, Suite 1100 (SES), Boston, MA 02114-2023 (Telephone Number: 617-918-1772). Comments should reference the Beede Waste Oil Superfund Site in Plaistow, New Hampshire and EPA Docket No. CERCLA-1-2002-0025 and should be addressed to Kristin Balzano, U.S. Environmental Protection Agency, Region I, 1 Congress Street, Suite 1100 (SES), Boston, MA 02114-2023.

FOR FURTHER INFORMATION CONTACT: Cindy Lewis, U.S. Environmental Protection Agency, Region I, 1 Congress Street, Suite 1100 (SES), Boston, MA 02114-2023 (Telephone Number: 617-918-1889).

SUPPLEMENTARY INFORMATION: The following is the additional settling party: Gerardi's Amoco.

Dated: September 17, 2002.
Stanley D. Chin,
Acting Director, Office of Site Remediation and Restoration, EPA—Region I.

[FR Doc. 02-24342 Filed 9-24-02; 8:45 am]

BILLING CODE 6560-50-P